DEPARTMENT OF THE TREASURY

Office of the General Counsel

Appointment of Members of the Legal Division to the Performance Review Board, Internal Revenue Service

Under the authority granted to me as Acting Chief Counsel of the Internal Revenue Service by the General Counsel of the Department of the Treasury by General Counsel Order No. 21 (Rev. 4), pursuant to the Civil Service Reform Act, I have appointed the following persons to the Legal Division Performance Review Board, Internal Revenue Service Panel:

1. Chairperson, Judith C. Dunn, Deputy Chief Counsel (Operations).

2. George B. Wolfe, Deputy General Counsel.

3. Kevin Brown, Division Counsel (Small Business/Self-Employed).

4. Linda Burke, Division Counsel (Large & Mid-Size Business).

5. Mark Kaizen, Associate Chief Counsel (General Legal Services).

6. John Staples, Associate Chief Counsel (International).

This publication is required by 5 U.S.C. 4314(c)(4).

Dated: September 11, 2001.
Richard Skillman,
Acting Chief Counsel, Internal Revenue Service.

[FR Doc. 01-23787 Filed 9-21-01; 8:45 am]

BILLING CODE 4830-01-P